DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on March 31, 2021, 1:00 p.m.-6:00 p.m. (EDT).

The meeting is open to the public and will include consideration of minutes from the SAMHSA CSAT NAC meeting of September 22, 2020; an update on CSAT activities; a discussion with SAMHSA leadership; a discussion about the use of technology in prevention and treatment of substance use disorders; and a discussion on rural and frontier communities.

The meeting will be held via WebEx and telephone only. Interested persons may present data, information, or views, orally or in writing, on issues pending before the Council. Oral presentations from the public will be scheduled at the conclusion of the meeting. Individuals interested in making oral presentations or written submissions must notify the contact person on or before March 19, 2021. Up to five minutes will be allotted for each presentation.

Registration is required to participate. To attend virtually, or to obtain the call-in number and access code, submit written or brief oral comments, or request special accommodations for persons with disabilities, please register on-line at http://snacregister.samhsa.gov/MeetingList.aspx, or communicate with the CSAT National Advisory Council Designated Federal Officer; (see contact information below).

Meeting information and a roster of Council members may be obtained by accessing the SAMHSA Committee website at http://www.samhsa.gov/about-us/advisory-councils/csat-national-advisory-council or by contacting the CSAT National Advisory Council Designated Federal Officer.

Council Name: SAMHSA's Center for Substance Abuse Treatment, National Advisory Council.

Date/Time/Type: March 31, 2021, 1:00 p.m.-6:00 p.m. EDT, OPEN.

Place: SAMHSA, 5600 Fishers Lane, Rockville, Maryland 20857.

Contact: Tracy Goss, Designated Federal Officer, CSAT National Advisory Council, 5600 Fishers Lane, Rockville, Maryland 20857 (mail), Telephone: (240) 276-0759, Email: tracy.goss@samhsa.hhs.gov.

Dated: February 11, 2021.
Carlos Castillo,
Committee Management Officer, SAMHSA.

[FR Doc. 2021-03269 Filed 2-17-21; 8:45 am]

BILLING CODE 4162-20-P